DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed extension of two information collections: (1) Provider Enrollment Form and (2) Request for Information on Earnings, Dual Benefits, Dependents, and Third Party Settlements.

DATES: Written comments must be submitted to the office listed in the ADDRESSES section below on or before October 23, 2001.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

Provider Enrollment Form

I. Background

Two programs in the Office of Workers' Compensation Programs are responsible for maintaining a list of authorized treating physicians and medical facilities in the area of the claimant's residence and for payment of certain medical bills for services and supplies, provided to miners under the Black Lung Benefits Act (30 U.S.C. 901 et seq., 20 CFR 725.703(a) and 725.704(b)) and claimants under the Division of Energy Employees Occupational Illness Compensation Program Act (Pub.L. 106-398 and 20 CFR 30.701). Both of these programs maintain a list of registered providers who wish to participate in rendering services and supplies for the Program beneficiaries. Provider information on the form is used to carry out the payment process and to ensure that claimants can be referred to approved providers upon request.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of this information collection in order to carry out a wide range of full automated medical bill edits, such as, cross-checks of provider specialty against type of service, status of case reporting, and compilation of historical data on selected providers. This information is also utilized to furnish timely and detailed reports to providers on the status of previous bills. The form is also used to up-date provider billing information.

Type of Review: Extension.

Agency: Employment Standards Administration.

Title: Provider Enrollment Form.

OMB Number: 1215-0137.

Agency Number: OWCP-1168.

Affected Public: Business or other for-profit.

Frequency: Annual.

Total Respondents: 9,000.

Total Annual Responses: 9,000.

Average Time per Response: 6 minutes.

Estimated Total Burden Hours: 1,017.

Total Burden Cost (capital/startup): $0.

Total Burden Cost (operating/maintenance): $3,330.00.

Request for Information on Earnings, Dual Benefits, Dependents, and Third Party Settlements

I. Background

The collection of this information is necessary under provisions of the Federal Employees' Compensation Act (FECA) which states: (1) Compensation must be adjusted to reflect a claimant's earnings while in receipt of benefits (5 U.S.C. 8106); (2) compensation is payable at the augmented rate of 75 percent only if the claimant has one or more dependents as defined by the FECA (5 U.S.C. 8110); (3) compensation may not be paid concurrently with certain benefits from other Federal Agencies, such as the Office of Personnel Management, Social Security, and the Veterans Administration (5 U.S.C. 8116); (4) compensation must be adjusted to reflect any settlement from a third party responsible for the injury for which the claimant is being paid compensation (5 U.S.C. 8132); (5) an individual convicted of any violation related to fraud in the application for, or receipt of, any compensation benefit, forfeits (as of the date of such conviction) any entitlement to such benefits, for any injury occurring on or before the date of conviction (5 U.S.C. 8148 (a)); and, (6) no Federal compensation benefit can be paid to any individual for any period during which such individual is incarcerated for any felony offense (5 U.S.C. 8148 (b)(1)). The information collected through Form CA-1032 is used to ensure that compensation being paid on the periodic roll is correct.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of this information collection in order to ensure that compensation being paid on the periodic roll is correct.

Type of Review: Extension.

Agency: Employment Standards Administration.

Title: Request for Information on Earnings, Dual Benefits, Dependents, and Third Party Settlements.

OMB Number: 1215-0151.

Agency Number: CA-1032.

Affected Public: Businesses or other for-profit.

Frequency: Annual.

Total Respondents: 50,000.

Total Annual Responses: 50,000.

Time per Response: 20 minutes.

Estimated Total Burden Hours: 16,667.

Total Burden Cost (capital/startup): $0.

Total Burden Cost (operating/maintenance): $18,500.00.

Comments submitted in response to this notice will be summarized and/or included in the request for Office of Management and Budget approval of the information collection request; they will also become a matter of public record.

Dated: August 16, 2001.
Margaret J. Sherrill,
Chief, Branch of Management Review and Internal Control, Division of Financial Management, Office of Management, Administration and Planning, Employment Standards Administration.

[FR Doc. 01-21484 Filed 8-23-01; 8:45 am]

BILLING CODE 4510-CH-P